DEPARTMENT OF HEALTH AND HUMAN SERVICES

Administration on Aging

[Program Announcement No. AoA-01-04]

Fiscal Year 2001 Program Announcement; Availability of Funds and Notice Regarding Applications

AGENCY: Administration on Aging, HHS.

ACTION: Request for applications for a National Center for Family Friends/Volunteer Senior Aides to provide training and technical assistance to current projects, fund and assist new projects, and develop and implement new models to demonstrate alternative funding strategies.

SUMMARY: The Administration on Aging announces that under this program announcement it will hold a competition for a grant award for one (1) project at a federal share of approximately $485,000 per year for a project period of two years. The purpose of the project is to support a national center to further build and support a national system of Family Friends/Volunteer Senior Aides projects, and to develop and implement new models to demonstrate alternative funding strategies for local program replication/expansion.

The deadline date for the submission of applications is June 15, 2001. Public and/or nonprofit agencies, organizations, or institutions are eligible to apply. To be considered for funding, however, the applicant must be experienced in providing services to the designated populations inherent to the Family Friends/VSA programs.

Application kits are available by writing to the U.S. Department of Health and Human Services, Administration on Aging, Office of Program Development, 330 Independence Avenue, SW., Room 4264, Washington, DC 20201, by calling 202/619-2987 or on the web at http://www.aoa.gov/t4/fy2001.

Dated: May 4, 2001.
Norman L. Thompson,
Acting Principal Deputy Assistant Secretary for Aging.

[FR Doc. 01-11730 Filed 5-8-01; 8:45 am]

BILLING CODE 4154-01-P